DEPARTMENT OF LABOR

Employment and Training Administration

[TA-W-57,340]

Top Ride Fashion, South El Monte, CA; Notice of Termination of Investigation

Pursuant to Section 221 of the Trade Act of 1974, as amended, an investigation was initiated on June 8, 2005 in response to a petition filed by a company official on behalf of workers at Top Ride Fashion, South El Monte, California.

The Department has been unable to locate the company official for the subject group or to obtain the information necessary to reach a determination on worker group eligibility. Consequently, further investigation in this case would serve no purpose, and the investigation has been terminated.

Signed at Washington, DC this 20th day of June, 2005.
Richard Church,
Certifying Officer, Division of Trade Adjustment Assistance.

[FR Doc. E5-3766 Filed 7-14-05; 8:45 am]

BILLING CODE 4510-30-P